NATIONAL SCIENCE FOUNDATION

National Science Board Commission on 21st Century Education in Science, Technology, Engineering, and Mathematics; Notice of Meeting

In accordance with the Federal Advisory Committee Act (Pub. L. 92-463, as amended), the National Science Board announces the following meeting:

Date and Time: Wednesday, January 10, 2007, 11 a.m.-12:30 p.m. EST (teleconference meeting)

Place: National Science Foundation, Room 545, Stafford II Building, 4121 Wilson Blvd., Arlington, VA 22230 will be available to the public to listen to this teleconference meeting. Visitors must first sign in at the National Science Foundation reception desk at 4201 Wilson Blvd., Arlington, VA 22230.

Type of Meeting: Open.

Contact Person: Dr. Elizabeth Strickland, Commission Executive Secretary, National Science Board Office, National Science Foundation, 4201 Wilson Blvd., Arlington, VA 22230. Telephone: 703-292-4527. E-mail: estrickl@nsf.gov.

Purpose of Meeting: To discuss preliminary draft recommendations of the Commission.

Agenda: Discussion of preliminary draft recommendations of the Commission.

Reason for Late Notice: Time and date of meeting were not established until December 22, 2006.

Russell Moy,
Attorney-Advisor.

[FR Doc. E6-22333 Filed 12-28-06; 8:45 am]

BILLING CODE 7555-01-P